DEPARTMENT OF COMMERCE

International Trade Administration

[C-580-884]

Certain Hot-Rolled Steel Flat Products From the Republic of Korea: Preliminary Results and Partial Rescission of Countervailing Duty Administrative Review; 2022

AGENCY: Enforcement and Compliance, International Trade Administration, Department of Commerce.

SUMMARY: The U.S. Department of Commerce (Commerce) preliminarily determines that countervailable subsidies were provided to producers and exporters of certain hot-rolled steel flat products (hot-rolled steel) from the Republic of Korea (Korea). The period of review (POR) is January 1, 2022, through December 31, 2022. Additionally, Commerce is rescinding the review, in part, with respect to 13 companies which had no entries. We invite interested parties to comment on these preliminary results.

DATES: Applicable November 13, 2024.

FOR FURTHER INFORMATION CONTACT: Kelsie Hohenberger or Nathan James, AD/CVD Operations, Office V, Enforcement and Compliance, International Trade Administration, U.S. Department of Commerce, 1401 Constitution Avenue NW, Washington, DC 20230; telephone: (202) 482-2517 or (202) 482-5305, respectively.

SUPPLEMENTARY INFORMATION:

Background

In October 2023, Commerce received requests for an administrative review of the countervailing duty (CVD) order on hot-rolled steel from Korea.¹ On December 6, 2023, Commerce published a notice of initiation of administrative review of the Order.² On January 18, 2024, Commerce selected Hyundai Steel Company (Hyundai Steel) and POSCO as mandatory respondents in this administrative review.³ On June 25, 2024, Commerce extended the deadline for the preliminary results of this review.⁴ On July 22, 2024, Commerce tolled certain deadlines in this administrative proceeding by seven days.⁵ The deadline for the preliminary results is now November 6, 2024.

¹ See Certain Hot-Rolled Steel Flat Products from Brazil and the Republic of Korea: Amended Final Affirmative Countervailing Duty Determinations and Countervailing Duty Orders, 81 FR 67960 (October 3, 2016) (Order).

² See Initiation of Antidumping and Countervailing Duty Administrative Reviews, 88 FR 84784 (December 6, 2023) (Initiation Notice).

³ See Memorandum, “Respondent Selection,” dated January 18, 2024.

⁴ See Memorandum, “Extension of Deadline for Preliminary Results of 2022 Countervailing Duty Administrative Review,” dated June 25, 2024.

⁵ See Memorandum, “Tolling of Deadlines for Antidumping and Countervailing Duty Proceedings,” dated July 22, 2024.

For a complete description of the events that followed the initiation of this review, see the Preliminary Decision Memorandum.⁶ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

⁶ See Memorandum, “Decision Memorandum for the Preliminary Results of the Countervailing Duty Administrative Review; 2022: Certain Hot-Rolled Steel Flat Products from the Republic of Korea,” dated concurrently with, and hereby adopted by, this notice (Preliminary Decision Memorandum).

Scope of the Order

The merchandise covered by the Order is hot-rolled steel from Korea. For a complete description of the scope of the Order, see the Preliminary Decision Memorandum.

Rescission of Administrative Review, In Part

On October 8, 2024, Commerce notified interested parties that we intended to rescind this administrative review for 13 companies for which the record information shows no suspended entries of subject merchandise during the POR.⁷ No parties commented on the notification of intent to rescind the review, in part. Therefore, we find that there were no entries of subject merchandise during the POR by the 13 companies listed in Appendix II. As a result of our finding, we are rescinding this review, in part, pursuant to 19 CFR 351.213(d)(3), with respect to these companies. For further information regarding this determination, see “Rescission of Administrative Review, in Part” section in the Preliminary Decision Memorandum.

⁷ See Memorandum, “Intent to Rescind Review, in Part,” dated October 8, 2024.

Methodology

Commerce is conducting this review in accordance with section 751(a)(l)(A) of the Tariff Act of 1930, as amended (the Act). For each of the subsidy programs found countervailable, Commerce preliminarily determines that there is a subsidy, i.e., a financial contribution by an “authority” that gives rise to a benefit to the recipient, and that the subsidy is specific.⁸ For a full description of the methodology underlying our conclusions, see the Preliminary Decision Memorandum.

⁸ See sections 771(5)(B) and (D) of the Act regarding financial contribution; section 771(5)(E) of the Act regarding benefit; and section 771(5A) of the Act regarding specificity.

Preliminary Results of Review

As a result of this review, we preliminarily determine the net countervailable subsidy rates for the period January 1, 2022, through December 31, 2022 to be:

Company | Subsidy rate (percent ad valorem)
Hyundai Steel Company ⁹ | 2.21
POSCO ¹⁰ | 1.47

Disclosure and Public Comment

⁹ As discussed in the Preliminary Decision Memorandum, Commerce has found the following company to be cross-owned with Hyundai Steel: Hyundai Green Power Co., Ltd.

¹⁰ The company is also known as POSCO Co., Ltd. Additionally, as discussed in the Preliminary Decision Memorandum, Commerce has found the following companies to be cross-owned with POSCO: POSCO Holdings, POSCO International Corporation, POSCO Chemical, POSCO M-Tech, Pohang Scrap Recycling Distribution Center Co., Ltd., POSCO Nippon Steel RHF Joint Venture Co., Ltd., and POSCO Mobility Solutions.

Commerce intends to disclose its calculations performed to interested parties for these preliminary results within five days of any public announcement or, if there is no public announcement, within five days of the date of publication of this notice in the Federal Register in accordance with 19 CFR 351.224(b).

Interested parties may submit case briefs or other written comments to the Assistant Secretary for Enforcement and Compliance.¹¹ A timeline for the submission of case briefs and written comments will be established at a later date. Rebuttal briefs, limited to issues raised in case briefs, may be submitted no later than five days after the deadline date for case briefs.¹² Interested parties that submit case or rebuttal briefs in this review must submit: (1) a table of contents listing each issue; and (2) a table of authorities.¹³

¹¹ See 19 CFR 351.309(c)(1)(ii); see also 19 CFR 351.303 for general filing requirements.

¹² See 19 CFR 351.309(d); see also Administrative Protective Order, Service, and Other Procedures in Antidumping and Countervailing Duty Proceedings, 88 FR 67069, 67077 (September 29, 2023) (APO and Service Procedures).

¹³ See 19 CFR 351.309(c)(2) and (d)(2).

As provided under 19 CFR 351.310(c)(2) and (d)(2), in prior proceedings we have encouraged interested parties to provide an executive summary of their briefs that should be limited to five pages total, including footnotes. In this review, we instead request that interested parties provide at the beginning of their briefs a public, executive summary for each issue raised in their briefs.¹⁴ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁵

¹⁴ We use the term “issue” here to describe an argument that Commerce would normally address in a comment of the Issues and Decision Memorandum.

¹⁵ See APO and Service Procedures.

Pursuant to 19 CFR 351.310(c), interested parties who wish to request a hearing must submit a written request to the Assistant Secretary for Enforcement and Compliance, filed electronically via ACCESS within 30 days after the date of publication of this notice. Requests should contain: (1) the party's name, address, and telephone number; (2) the number of participants; and (3) a list of the issues to be discussed. Issues raised in the hearing will be limited to those raised in the respective case briefs. If a request for a hearing is made, Commerce will inform parties of the scheduled date for the hearing

Unless the deadline is extended, we intend to issue the final results of this administrative review, which will include the results of our analysis of the issues raised in the case briefs, within 120 days of publication of these preliminary results in the Federal Register, pursuant to section 751(a)(3)(A) of the Act and 19 CFR 351.213(h).

Assessment Rates

Consistent with section 751(a)(1) of the Act and 19 CFR 351.212(b)(2), upon issuance of the final results, Commerce shall determine, and CBP shall assess, countervailing duties on all appropriate entries covered by this review.

For the companies for which this review is rescinded, we will instruct CBP to assess countervailing duties on all appropriate entries at a rate equal to the cash deposit of estimated countervailing duties required at the time of entry, or withdrawal from warehouse, for consumption, during the period January 1, 2022, through December 31, 2022. We intend to issue assessment instructions to CBP for these companies no earlier than 35 days after the date of publication of this rescission in the Federal Register.

For the companies remaining in the review, we will instruct CBP to assess countervailing duties on all appropriate entries at the subsidy rates calculated in the final results of this review. We intend to issue assessment instructions to CBP no earlier than 35 days after the date of publication of the final results of this review in the Federal Register.

If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amounts shown for each of the respective companies listed above on shipments of subject merchandise entered, or withdrawn from warehouse, for consumption on or after the date of publication of the final results of this review. For all non-reviewed firms, we will instruct CBP to continue to collect cash deposits of estimated countervailing duties at the most recent company-specific or all-others rate applicable to the company. These cash deposit instructions, when imposed, shall remain in effect until further notice.

Notification to Interested Parties

We are issuing and publishing these preliminary results of review in accordance with sections 751(a)(1) and 777(i)(1) of the Act, and 19 CFR 351.221(b)(4).

Dated: November 6, 2024.
Abdelali Elouaradia,
Deputy Assistant Secretary for Enforcement and Compliance.

Appendix I

List of Topics Discussed in the Preliminary Decision Memorandum

I. Summary

II. Background

III. Scope of the Order

IV. Period of Review

V. Diversification of Korea's Economy

VI. Rescission of Administrative Review, in Part

VII. Subsidies Valuation Information

VIII. Benchmarks and Interest Rates

IX. Analysis of Programs

X. Recommendation

Appendix II

Companies for Which Commerce Is Rescinding This Review

1. DCE Inc.

2. Dong Chuel America Inc.

3. Dong Chuel Industrial Co., Ltd.

4. Dongbu Incheon Steel Co., Ltd.

5. Dongbu Steel Co., Ltd.

6. Dongkuk Industries Co., Ltd.

7. Dongkuk Steel Mill Co., Ltd.

8. Hyewon Sni Corporation (H.S.I.)

9. JFE Shoji Trade Korea Ltd.

10. POSCO Coated & Color Steel Co., Ltd.

11. POSCO Daewoo Corporation

12. Soon Hong Trading Co., Ltd.

13. Sung-A Steel Co., Ltd.

[FR Doc. 2024-26251 Filed 11-12-24; 8:45 am]

BILLING CODE 3510-DS-P